SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: February 1-28, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR part 806, subpart E:

1. Blossburg Municipal Authority—Public Water Supply System, GF Certificate No. GF-202102155, Bloss Township, Tioga County, Pa.; Bellman Run; Issue Date: February 23, 2021.

2. Elizabethville Area Authority—Public Water Supply System, GF Certificate No. GF-202102156, Washington Township, Dauphin County, Pa.; Lentz and Loyalton Wells; Issue Date: February 23, 2021.

Dated: March 15, 2021
Jason E. Oyler,
General Counsel and Secretary to the Commission.

[FR Doc. 2021-05607 Filed 3-17-21; 8:45 am]

BILLING CODE 7040-01-P